DEPARTMENT OF THE INTERIOR

Fish and Wildlife Service

Mississippi Sandhill Crane National Wildlife Refuge

AGENCY: Fish and Wildlife Service, Interior.

ACTION: Notice of intent to prepare a Comprehensive Conservation Plan and Environmental Assessment for Mississippi, Sandhill Crane National Wildlife Refuge in Gautier, MS

SUMMARY: This notice advises the public that the Fish and Wildlife Service, Southeast Region, intends to gather information necessary to prepare a Comprehensive Conservation Plan and Environmental Assessment for Mississippi Sandhill Crane National Wildlife Refuge, pursuant to the National Environmental Policy Act and its implementing regulations.

The National Wildlife Refuge Service Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, such as opportunities, for hunting, fishing, wildlife observation, wildlife photography, and environmental education and interpretation.

The purpose of this notice is to achieve the following:

(1) Advise other agencies and the public of our intentions, and

(2) Obtain suggestions and information on the scope of issues to include in the environmental document.

DATES: Open house style meeting(s) will be held throughout the scoping phase of the comprehensive conservation plan development process. Special mailings, newspaper articles, and other media announcements will be used to inform the public and State and local government agencies of the opportunities for input throughout the planning process.

ADDRESSES: Address comments, questions, and requests for more information to Mississippi Sandhill Crane National Wildlife Refuge, 7200 Crane Lane, Gautier, Mississippi 39553; Telephone 228-497-6322. To ensure consideration, written comments must be received within 45 days following the date of this notice. Our practice is to make comments, including names and addresses of respondents, available for public review during regular business hours. Individual respondents may request that we withhold their home addresses from the record, which we will honor to the extent allowable by law.

SUPPLEMENTARY INFORMATION: Mississippi Sandhill Crane National Wildlife Refuge was established in 1975 to safeguard the critically endangered Mississippi sandhill crane and its unique disappearing habitat. Refuge objectives are to: provide protection and management for the cranes; protect and preserve unique wet pine savanna communities; and provide environmental education, interpretation, and wildlife-oriented recreation.

The more than 19,000-acre refuge consists of the Gautier, Ocean Springs, Fontainebleau, and Bluff Creek units. Wet pine savannas, pine scrub, forested swamps, and tidal marshes are the main habitat types of the refuge.

Authority: This notice is published under the authority of the National Wildlife Refuge System Improvement Act of 1997, Pub. L. 105-57.

Dated: April 14, 2005.
Cynthia K. Dohner,
Acting Regional Director.

[FR Doc. 05-10539 Filed 5-25-05; 8:45 am]

BILLING CODE 4310-55-M